DEPARTMENT OF STATE

22 CFR Part 126

[Public Notice 4399]

RIN 1400-AB82

Bureau of Political-Military Affairs; Amendment to the International Traffic in Arms Regulations: Partial Lifting of Embargo Against Rwanda

AGENCY: Department of State.

ACTION: Final rule.

SUMMARY: This rule amends the International Traffic in Arms Regulations (ITAR) by removing Rwanda from the list of embargoed country examples in 22 CFR 126.1(a). It further clarifies that a policy of denial will remain in place for any new license applications, requests for approval, exports or imports of defense articles or defense services destined for or originating in Rwanda other than by the Government of Rwanda.

EFFECTIVE DATE: July 30, 2003.

FOR FURTHER INFORMATION CONTACT: Mary Sweeney, Office of Defense Trade Controls Management, Bureau of Political-Military Affairs, Department of State (202) 663-2700.

SUPPLEMENTARY INFORMATION: The President issued Executive Order 12918 (May 26, 1994) implementing United Nations Security Council Resolution 918 (May 17, 1994). Due to the civil strife in Rwanda, Resolution 918 called upon all States to impose an embargo upon Rwanda. Consequently, all licenses and other approvals authorizing the export or transfer of defense articles or services to Rwanda were suspended, and a denial policy was imposed upon all new applications or other requests for such exports or transfers to Rwanda by Federal Register notice of June 2, 1994. Effective August 17, 1994, section 126.1 of the ITAR was amended to add Rwanda to the exemplary list of embargoed countries.

United Nations Security Council Resolution 1011 (August 16, 1995) lifted the arms embargo only with respect to the Government of Rwanda. That Resolution retained the restriction that all States “* * * continue to prevent” transfers of “arms and related materiel of all types * * * to Rwanda, or to persons in the States neighboring Rwanda if such sale or supply is for the purpose of the use of such arms or materiel within Rwanda, other than to the Government of Rwanda * * *.”

Accordingly, the policy of denial will remain in place for exports or other transfers of defense articles and defense services covered by section 38 of the Arms Export Control Act for use or originating in Rwanda other than by the Government of Rwanda. This action precludes the use in connection with non-governmental end-users in Rwanda of any exemptions from licensing or other approval requirements. Also, arms exports and transfers to or imports from Rwanda or neighboring States for use by the Government of Rwanda will continue to receive strict case-by-case review.

To implement United Nations Security Council Resolution 1011, section 126.1(a) of the ITAR is amended and section 126.1(h) is added to set forth the policy of denial with respect to Rwanda except for the Government of Rwanda.

This amendment involves a foreign affairs function of the United States and therefore, is not subject to the procedures required by 5 U.S.C. 553 and 554. It is exempt from review under Executive Order 12866 but has been reviewed internally by the Department to ensure consistency with the purposes thereof. This rule does not require analysis under the Regulatory Flexibility Act or the Unfunded Mandates Reform Act. It has been found not to be a major rule within the meaning of the Small Business Regulatory Enforcement Act of 1966. It will not have substantial direct effects on the States, the relationship between the National Government and the States, or on the distribution of power and responsibilities among the various levels of government. Therefore, in accordance with section 6 of Executive Order 13132, it is determined that this rule does not have sufficient federalism implications to warrant application of Executive Orders 12372 and 13123. Interested parties are invited to submit written comments to the Department of State, Directorate of Defense Trade Controls, Office of Defense Trade Controls Management, ATTN: Regulatory Change, Rwanda embargo, 12th Floor, SA-1, Washington, DC 20522-0112.

List of Subjects in 22 CFR Part 126

Arms and munitions, Exports.

Accordingly, for the reasons set forth above, title 22, chapter I, subchapter M, part 126, is amended as follows:

PART 126—GENERAL POLICIES AND PROVISIONS

1. The authority citation for part 126 continues to read as follows:

Authority: Secs. 2, 38, 40, 42, and 71, Pub. L. 90-629, 90 Stat. 744 (22 U.S.C. 2752, 2778, 2780, 2791, and 2797); 22 U.S.C. 2778; E.O. 11958, 42 FR 4311; 3 CFR, 1977 Comp., p. 79; 22 U.S.C. 2658; 22 U.S.C. 287c; E.O. 12918, 59 FR 28205, 3 CFR, 1994 Comp., p. 899.

2. Section 126.1 is amended by revising paragraph (a) and adding paragraph (h) to read as follows:

§ 126.1 Prohibited exports and sales to certain countries.

(a) General. It is the policy of the United States to deny licenses, other approvals, exports and imports of defense articles and defense services, destined for or originating in certain countries. This policy applies to Belarus, Cuba, Iran, Iraq, Libya, North Korea, Syria, and Vietnam. This policy also applies to countries with respect to which the United States maintains an arms embargo (e.g. Burma, China, Haiti, Liberia, Somalia, Sudan and Democratic Republic of the Congo (formerly Zaire)) or whenever an export would not otherwise be in furtherance of world peace and the security and foreign policy of the United States. Information regarding certain other embargoes appears elsewhere in this section. Comprehensive arms embargoes are normally the subject of a State Department notice published in the Federal Register. The exemptions provided in the regulations in this subchapter, except §§ 123.17 and 125.4(b)(13) of this subchapter, do not apply with respect to articles originating in or for export to any proscribed countries, areas, or persons in this § 126.1.

* * * * *

(h) Rwanda. It is the policy of the United States to deny licenses, other approvals, exports and imports of defense articles and defense services, destined for or originating in Rwanda except for the Government of Rwanda, which will be reviewed on a case-by-case basis. UN Security Council Resolution 1011 (1995) lifted the embargo only with respect to the Government of Rwanda.

Dated: June 24, 2003.
John R. Bolton,
Under Secretary, Arms Control and International Security, Department of State.

[FR Doc. 03-17602 Filed 7-29-03; 8:45 am]

BILLING CODE 4710-25-P